DEPARTMENT OF HOUSING AND URBAN DEVELOPMENT

24 CFR Parts 203 and 291

[Docket No. FR-4887-N-02]

RIN 2502-AI14

HUD's Accelerated Claim and Asset Disposition (ACD) Program; Reopening of Public Comment Period

AGENCY: Office of the Assistant Secretary for Housing-Federal Housing Commissioner, HUD.

ACTION: Advance notice of proposed rulemaking; reopening of comment period.

SUMMARY: This notice announces the reopening of the public comment period on HUD's advance notice of proposed rulemaking (ANPR) regarding the Accelerated Claim and Asset Disposition (ACD) program, published on June 5, 2006. The June 5, 2006, ANPR provided for a 60-day public comment period, which closed on August 4, 2006. In response to recent requests for additional time to submit public comments, HUD is announcing through this notice that it is reopening the public comment period for an additional 30-day period.

DATES: Comment Due Date: Comments on the June 5, 2006, ANPR are due on or before October 16, 2006.

ADDRESSES: Interested persons are invited to submit written comments regarding this proposed rule to the Regulations Division, Office of General Counsel, Department of Housing and Urban Development, 451 Seventh Street, SW., Room 10276, Washington, DC 20410-0500. Interested persons also may submit comments electronically through the Federal eRulemaking Portal at: http://www.regulations.gov. Commenters should follow the instructions provided on that site to submit comments electronically. HUD strongly encourages commenters to submit comments electronically in order to make them immediately available to the public. All communications should refer to the above docket number and title. Facsimile (FAX) comments and e-mail comments are not acceptable. A copy of each communication submitted will be available for public inspection and copying between 8 a.m. and 5 p.m. weekdays at the above address. Due to security measures at the HUD Headquarters building, an advance appointment to review the public comments must be scheduled by calling the Regulations Division at (202) 708-3055 (this is not a toll-free number). Persons with hearing or speech impairments may access the above telephone number via TTY by calling the toll-free Federal Relay Information Service at (800) 877-8339. Copies of all comments submitted are available for inspection and downloading at http://www.regulations.gov.

FOR FURTHER INFORMATION CONTACT: Kathleen S. Malone, Director, Asset Sales Office, Office of Finance and Budget, Department of Housing and Urban Development, 451 Seventh Street SW., Room 3136, Washington, DC 20410-8000; telephone (202) 708-2625 (this is not a toll-free number). Persons with hearing and speech impairments may access the phone number via TTY by calling the toll-free Federal Information Relay Service at (800) 877-8399.

SUPPLEMENTARY INFORMATION: On June 5, 2006 (71 FR 32392), HUD published an advance notice of proposed rulemaking (ANPR) soliciting public comments on the Department's Accelerated Claim and Asset Disposition (ACD) program before HUD issues a proposed rule to codify the ACD requirements. When codified, the ACD program will become a permanent part of HUD's single family mortgage insurance programs.

The ACD process is authorized under section 601 of the Departments of Veterans Affairs and Housing and Urban Development and Independent Agencies Appropriations Act, 1999 (Pub. L. 105-276, approved October 21, 1998), which amended section 204 of the National Housing Act (12 U.S.C. 1710) to increase recoveries, produce savings, and improve the overall efficiency of the disposition of HUD-acquired single family assets. Under amended section 204(a)(1)(A) of the National Housing Act, the Secretary of HUD is authorized to pay claims upon assignment of certain defaulted FHA-insured mortgage loans.

Before implementing the new ACD disposition process on a nationwide basis, HUD has conducted an ACD Demonstration program involving a group of defaulted mortgages. This has allowed HUD to assess the overall effectiveness of this disposition process. HUD believes that improvements can be made to the program to make it more effective. Consequently, before proceeding with the regulatory codification of the ACD program, HUD issued the June 5, 2006, ANPR soliciting comments from all interested parties, especially those who participated or declined to participate in the Demonstration program, on possible improvements to the program.

The June 5, 2006, ANPR provided for a 60-day public comment period, which closed on August 4, 2006. In response to recent requests for additional time to submit public comments, HUD is announcing through this notice that it is reopening the public comment period for an additional 30-day period. Interested persons should refer to the June 5, 2006, ANPR for additional information regarding the ACD process and on the topics on which HUD is specifically soliciting public comments. The public comments received by HUD, both in response to the original June 5, 2006, ANPR and this notice, will be used to develop the future proposed rule commencing the rulemaking process to codify the ACD program.

Dated: September 5, 2006.
Brian D. Montgomery,
Assistant Secretary for Housing-Federal Housing Commissioner .

[FR Doc. E6-15285 Filed 9-14-06; 8:45 am]

BILLING CODE 4210-67-P